DEPARTMENT OF COMMERCE

International Trade Administration

[A-580-865, A-201-839]

Bottom Mount Combination Refrigerator-Freezers From the Republic of Korea and Mexico: Postponement of Preliminary Determinations of Antidumping Duty Investigations

AGENCY: Import Administration, International Trade Administration, Department of Commerce.

FOR FURTHER INFORMATION CONTACT: Henry Almond (Republic of Korea) (202) 482-0049 or David Goldberger (Mexico) (202) 482-4136; AD/CVD Operations, Office 2, Import Administration, International Trade Administration, U.S. Department of Commerce, 14th Street and Constitution Avenue, NW., Washington DC 20230.

SUPPLEMENTARY INFORMATION:

Postponement of Preliminary Determinations

On April 19, 2011, the Department of Commerce (the Department) initiated antidumping duty investigations of imports of bottom mount combination refrigerator-freezers from the Republic of Korea (Korea) and Mexico. See Bottom Mount Combination Refrigerator-Freezers From the Republic of Korea and Mexico: Initiation of Antidumping Duty Investigations, 76 FR 23281 (April 26, 2011). The notice of initiation stated that we would issue our preliminary determinations no later than 140 days after the date of initiation. Currently, the preliminary determinations in these investigations are due on September 6, 2011.

On August 11, 2011, Whirlpool Corporation (hereafter, the petitioner) made timely requests, pursuant to 19 CFR 351.205(e) and section 733(c)(1)(A) of the Tariff Act of 1930, as amended (the Act), for a 50-day postponement of the preliminary determinations in the investigations. The petitioner stated that a postponement of these preliminary determinations is necessary because of the complexities of the investigations, the novelty of the issues raised, and because the Department is still involved in gathering and analyzing data from the respondents.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, because there are no compelling reasons to deny its requests, the Department is postponing the preliminary determinations in these investigations until October 26, 2011, which is 190 days from the date on which the Department initiated these investigations.

The deadline for the final determinations will continue to be 75 days after the date of the preliminary determinations, unless extended.

This notice is issued and published pursuant to section 733(c)(2) of the Act and 19 CFR 351.205(f)(1).

Dated: August 16, 2011.
Paul Piquado,
Acting Deputy Assistant Secretary for Import Administration.

[FR Doc. 2011-21390 Filed 8-19-11; 8:45 am]

BILLING CODE 3510-DS-P